DEPARTMENT OF TRANSPORTATION

Federal Aviation Administration

14 CFR Parts 121, 125, and 135

[Docket No. 27694, Notice No. 94-11]

RIN 2120-AE98

Operator Flight Attendant English Language Program

AGENCY: Federal Aviation Administration (FAA), DOT.

ACTION: Advance notice of proposed rulemaking (ANPRM), withdrawal.

SUMMARY: The FAA is withdrawing a previously published ANPRM that sought information to establish requirements to ensure that flight attendants understand sufficient English language to communicate, coordinate, and perform all required safety related duties. The ANPRM discussion concerned domestic, flag, and supplemental operations; airplanes having a seating capacity of 20 or more passengers or a maximum payload capacity of 6,000 pounds or more; and commuter and on demand operations. We are withdrawing the document because we are incorporating the flight attendant English language issue into a separate regulatory action on the broader subject of crewmember training. We believe that consolidating the flight attendant English language issue into the proposed training rulemaking will enable a more effective and efficient use of FAA resources, and the broader proposal will better serve the public interest.

FOR FURTHER INFORMATION CONTACT: Cindy Nordlie, ARM-108, Office of Rulemaking, Federal Aviation Administration, 800 Independence Avenue, SW., Washington, DC 20591; telephone (202) 267-7627.

SUPPLEMENTARY INFORMATION

Background

On April 18, 1994, the FAA published an Advance Notice of Proposed Rulemaking (ANPRM) (Notice No. 94-11, 59 FR 18456). The ANPRM informed the public that the FAA was considering amending parts 121, 125, and 135 of title 14 of the Code of Federal Regulations to require certificate holders to ensure flight attendants understand sufficient English to communicate, coordinate, and perform all required safety related duties. The comment period closed on July 18, 1994.

In 1996, the FAA's Aviation Rulemaking Advisory Committee (ARAC) was tasked with providing advice and recommendations on the flight attendant English language issue. ARAC's Operator Flight Attendant English Language Program Working Group was unable to reach consensus on an appropriate rulemaking action recommendation and asked ARAC to resolve the impasse. ARAC recommended proceeding with the rulemaking process. FAA determined that the most appropriate way to proceed with the rulemaking was to address the flight attendant English language issue in the overall context of crewmember training. ARAC concurred with the FAA's decision. Therefore, the task was withdrawn from ARAC and incorporated into a separate Crewmember Qualification and Training proposed rulemaking currently being developed by the FAA.

Discussion of Comments

All but one of the fourteen commenters expressed support for the proposal under consideration. The Air Transport Association strongly opposed any English language proficiency requirement, believing it to be the source of an unreasonable economic burden and unsupported by any identified specific safety problem.

Two individual commenters related personal experiences of communication difficulties with flight attendants and requested the problem be addressed before it results in tragedy. One individual noted that the ANPRM excludes operations that do not require flight attendants and stated that mandatory compliance by these operators would be burdensome and unfair.

The Canadian Air Line Pilots Association expressed complete agreement with the possible rulemaking without further comment.

The Air Line Pilots Association (ALPA), the Association of Flight Attendants (AFA), the Association of Professional Flight Attendants, the National Transportation Safety Board, an aircraft manufacturer, and the International Brotherhood of Teamsters Airline Division all expressed support for the possible rulemaking and declared an English language proficiency requirement to be essential for aviation safety. ALPA further suggested that flight attendants be required to communicate in the language of the flight's origin and destination. AFA added that the ability to understand a language does not assure an accompanying ability to communicate in that language, and requested that any rulemaking focus on communication, addressing problems with accents and speech impediments.

The FAA acknowledges these contributions to the rulemaking process, and we reaffirm our commitment to aviation safety regarding this issue by continuing to develop and implement training and qualification requirements for crewmembers. The FAA is currently developing a proposed rulemaking on the overall subject of Crewmember Qualification and Training that will encompass the issues of Notice No. 94-11.

Reason for Withdrawal

We are withdrawing Notice No. 94-11 because the flight attendant English language issue will be incorporated into a separate regulatory action currently being developed on the broader subject of Crewmember Qualification and Training. We believe that consolidating the flight attendant English language issue into the proposed training rulemaking will enable a more effective and efficient use of FAA resources, and the broader proposal will better serve the public interest.

Conclusion

Withdrawal of Notice No. 94-11 does not preclude the FAA from issuing another notice on the subject matter in the future or committing the agency to any future course of action. We will make any future necessary changes to the Code of Federal Regulations through an NPRM with opportunity for public comment.

The FAA has determined that this regulatory course of action is no longer necessary. Accordingly, the FAA withdraws Notice No. 94-11, published at 59 FR 18456 on April 18, 1994.

Issued in Washington, DC, on April 26, 2002.
James Ballough,
Director, Flight Standards Service.

[FR Doc. 02-10945 Filed 5-1-02; 8:45 am]

BILLING CODE 4910-13-P